DEPARTMENT OF THE INTERIOR

National Park Service

National Register of Historic Places; Notification of Pending Nominations and Related Actions

Nominations for the following properties being considered for listing or related actions in the National Register were received by the National Park Service before July 15, 2006. Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service,1201 Eye St., NW., 8th floor, Washington, DC 20005; or by fax, 202-371-6447. Written or faxed comments should be submitted by August 10, 2006.

John W. Roberts,
Acting Chief, National Register/National Historic Landmarks Program.

IDAHO

Ada County

Chitwood, Joseph, House, 1321 Denver St., Boise, 06000709

Schick—Ostolasa Farmstead, 5213 Dry Creek Rd., Boise, 06000710

ILLINOIS

Ogle County

Oregon Commercial Historic District, Roughly bounded by Jefferson, Franklin, 5th and 3rd Sts., Oregon, 06000713

IOWA

Jackson County

Maquoketa Company—Clinton Machine Company Administration Building, 605 E. Maple St., Maquoketa, 06000712

Marion County

Coal Ridge Baptist Church and Cemetery, 1034 IA S71, Knoxville, 06000711

LOUISIANA

East Baton Rouge Parish

Kress Building, 445 Third St., Baton Rouge, 06000714

Orleans Parish

Texaco Building, 1501 Canal, New Orleans, 06000715

MASSACHUSETTS

Franklin County

Hill Cemetery and Parson Hubbard House Historic District, Old Village Rd., 72 Old Village Rd., Shelburne, 06000716

Worcester County

Vintonville Historic District, Roughly bounded by Cottage, Green, Pine, Brigham, Beach Sts., and rear of properties along the east side of South St., Westborough, 06000717

MICHIGAN

Oakland County

Detroit Finnish Co-operative Summer Camp, 2524 Loon Lake Rd., Wixom, 06000723

Lake Orion Historic District, Roughly bounded by Elizabeth St., Hauxwell Dr., Front St., and Lapeer St., Lake Orion, 06000722

NORTH CAROLINA

Buncombe County

West Asheville—Aycock School Historic District, 401-441 Haywood Rd., Asheville, 06000718

Mecklenburg County

Grier, Sidney and Ethel, House, (Rural Mecklenburg County MPS) 4747 Grier Farm Ln., Charlotte, 06000724

Orient Manufacturing Company—Chadwick—Hoskins No. 3, 311 E. Twelfth St., Charlotte, 06000721

Montgomery County

Hotel Troy, NW corner of N. Main and Smitherman Sts., Troy, 06000720

Troy Residential Historic District, E side of N. Main St., from one lot N of Chestnut St. to one lot N of Blair St. and 105 Blair St., Troy, 06000719

Rutherford County

Gilbert Town Historic District, Along sections of Rock Rd.—NC 1520 and Old Gilbert Town Rd.—NC 1539, Rutherfordton, 06000726

OREGON

Benton County

Poultry Building and Incubator House, 800 SW Washington Ave., Corvallis, 06000725

Lane County

Wilder Apartments, (Residential Architecture of Eugene, Oregon MPS) 259 E. 13th Ave., Eugene, 06000727

TENNESSEE

Giles County

Smith, Dr. Benjamin Franklin, House, 13494 Columbia Hwy., Waco, 06000728

WASHINGTON

Grays Harbor County

Hoquiam Olympic Stadium, 2811 Cherry St., Hoquiam, 06000731

Pierce County

Washington School, 3701 N. 26th St., Tacoma, 06000729

Snohomish County

Trafton School, (Rural Public Schools of Washington State MPS) 12616 Jim Creek Rd., Arlington, 06000730

[FR Doc. E6-11896 Filed 7-25-06; 8:45 am]

BILLING CODE 4312-51-P